DEPARTMENT OF DEFENSE

Office of the Secretary

[Docket ID DoD-2015-OS-0127]

Privacy Act of 1974; System of Records

AGENCY: Office of the Secretary of Defense, DoD.

ACTION: Notice to alter a System of Records.

SUMMARY: The Office of the Secretary of Defense proposes to alter a new system of records, DHRA 10 DoD, entitled “Defense Sexual Assault Advocate Certification Program” to track the certification of SARC and SAPR VAs. Information will be used to review, process, and report on the status of SARC and SAPR VA certification to Congress.

DATES: Comments will be accepted on or before December 16, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/. The proposed system report, as required by 5 U.S.C. 552a(r) of the Privacy Act of 1974, as amended, was submitted on November 4, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 10, 2015.
Aaron Siegel,
Alternate OSD Federal Register Liaison Officer, Department of Defense.

DHRA 10 DoD

System name:

Defense Sexual Assault Advocate Certification Program (July 11, 2012, 77 FR 40861).

Changes:

* * * * *

System location:

Delete entry and replace with “National Organization for Victim Assistance, 510 King Street, Suite 424, Alexandria, VA 22314-3132.

Back-up: Suntrust Bank, 515 King Street, Alexandria, VA 22314-3157.”

* * * * *

Categories of records in the system:

Delete entry and replace with “Applicant's first name, middle initial, and last name; position type (Sexual Assault Response Coordinator (SARC) or Sexual Assault Prevention Representative Victim Advocate (SAPR VA)); Service/DoD affiliation and status; grade/rank; installation/command; work email address and telephone number; official military address of applicant and applicant's SARC (commanding officer, street, city, state, ZIP code, country); position level (Level I, II, III, or IV); certificates of training; date of application; verification of sexual assault victim advocacy experience (position, dates, hours, supervisor; name, title, and work telephone number of verifier); evaluation of sexual assault victim experience (description of applicant skills, abilities, and experience; name, title, and office of evaluator), letters of recommendation by the first person in the chain of command, SARC, and the Senior Commander or the Commander; supervisor and commander statement of understanding, documentation of continuing education training courses; Defense Sexual Assault Advocate Certification Program (D-SAACP) identification (ID) number.”

Authority for maintenance of the system:

Delete entry and replace with “10 U.S.C. 136, Under Secretary of Defense for Personnel and Readiness; DoD Directive 6495.01, Sexual Assault Prevention and Response (SAPR) Program; DoD Instruction 6495.02, Sexual Assault Prevention and Response (SAPR) Program Procedures; and Directive-type Memorandum (DTM) 14-001, Defense Sexual Assault Advocate Certification Program (D-SAACP).”

* * * * *

Routine uses of records maintained in the system, including categories of users and the purposes of such uses:

Delete entry and replace with “In addition to those disclosures generally permitted in accordance with 5 U.S.C. 552a(b) of the Privacy Act of 1974, as amended, the records contained herein may specifically be disclosed outside the DoD as a routine use pursuant to 5 U.S.C. 552a(b)(3) as follows:

To the Department of Justice Office for Victims of Crime and Training Technical Assistance Center for the purpose of verifying certified SARCs and SAPR VAs for participation in Advance Military Sexual Assault Advocate Training.

Law Enforcement Routine Use:

If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information Routine Use:

A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use:

A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use:

Disclosure from a system of records maintained by a DoD Component may be made to a congressional office from the record of an individual in response to an inquiry from the congressional office made at the request of that individual.

Disclosure to the Office of Personnel Management Routine Use:

A record from a system of records subject to the Privacy Act and maintained by a DoD Component may be disclosed to the Office of Personnel Management (OPM) concerning information on pay and leave, benefits, retirement deduction, and any other information necessary for the OPM to carry out its legally authorized government-wide personnel management functions and studies.

Disclosure of Information to the National Archives and Records Administration Routine Use:

A record from a system of records maintained by a DoD Component may be disclosed as a routine use to the National Archives and Records Administration for the purpose of records management inspections conducted under authority of 44 U.S.C. 2904 and 2906.

Disclosure to the Merit Systems Protection Board Routine Use:

A record from a system of records maintained by a DoD Component may be disclosed as a routine use to the Merit Systems Protection Board, including the Office of the Special Counsel for the purpose of litigation, including administrative proceedings, appeals, special studies of the civil service and other merit systems, review of OPM or component rules and regulations, investigation of alleged or possible prohibited personnel practices; including administrative proceedings involving any individual subject of a DoD investigation, and such other functions, promulgated in 5 U.S.C. 1205 and 1206, or as may be authorized by law.

Data Breach Remediation Purposes Routine Use:

A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD blanket routine uses can be found Online at: http://dpclo.defense.gov/Privacy/SORNsIndex/BlanketRoutineUses.aspx.”

Policies and practices for storing, retrieving, accessing, retaining, and disposing of records in the system:

Storage:

Delete entry and replace with “Paper file folders and electronic storage media.”

Retrievability:

Delete entry and replace with “First and last name and/or D-SAACP ID number.”

Safeguards:

Delete entry and replace with “Records are maintained in a controlled facility that employs physical restrictions such as double locks and is accessible only to authorized persons who hold key fobs. Access to electronic data files in the system is role-based, restricted to essential personnel only, and requires the use of a password. The data server is locked in a windowless room with restricted access. Data is encrypted, and backup data is also encrypted and removed to an off-site secure location for storage. Paper files are stored in a locked filing cabinet in a locked room in the controlled facility. System access to case files will be limited to computers within a closed network, not connected to the internet or other servers.”

Retention and disposal:

Delete entry and replace with “Temporary, Destroy when 5 years old.”

System manager(s) and address:

Delete entry and replace with “Sexual Assault Prevention and Response Office, ATTN: D-SAACP Manager, 4800 Mark Center Drive, Alexandria, VA 22350-1500.”

Notification procedure:

Delete entry and replace with “Individuals seeking to determine whether information about themselves is contained in this system of records should address written inquiries to the Sexual Assault Prevention and Response Office, ATTN: D-SAACP Manager, 4800 Mark Center Drive, Alexandria, VA 22350-1500.

Signed, written requests should contain first and last name and/or D-SAACP ID number.”

Record access procedures:

Delete entry and replace with “Individuals seeking access to records about themselves contained in this system should address written inquiries to the OSD/Joint Staff Freedom of Information Act, Requester Service Center, Office of Freedom of Information, 1155 Defense Pentagon, Washington, DC 20301-1155.

Signed, written requests should contain first and last name, D-SAACP ID number, and the name and number of this system of records notice.”

* * * * *

[FR Doc. 2015-28927 Filed 11-13-15; 8:45 am]

BILLING CODE 5001-06-P